COMMODITY FUTURES TRADING COMMISSION

Market Risk Advisory Committee

AGENCY: Commodity Futures Trading Commission.

ACTION: Notice of meeting.

SUMMARY: The Commodity Futures Trading Commission (CFTC) announces that on June 27, 2016, from 10:00 a.m. to 1:30 p.m., the Market Risk Advisory Committee (MRAC) will hold a public meeting at the CFTC's Washington, DC, headquarters. The MRAC will discuss: (1) The CCP Risk Management Subcommittee's draft recommendations on how Central Counterparties (CCPs) can better coordinate their efforts in preparing for the default of a significant clearing member, and (2) the role of the Federal Deposit Insurance Corporation (FDIC) and CFTC in the resolution of both banks and CCPs.

DATES: The meeting will be held on June 27, 2016 from 10:00 a.m. to 1:30 p.m. Members of the public who wish to submit written statements in connection with the meeting should submit them by June 27, 2016.

ADDRESSES: The meeting will take place in the Conference Center at the CFTC's headquarters, Three Lafayette Centre, 1155 21st Street NW., Washington, DC 20581. Written statements should be submitted by mail to: Commodity Futures Trading Commission, Three Lafayette Centre, 1155 21st Street NW., Washington, DC 20581, attention: Secretary of the Commission, or by electronic mail to: secretary@cftc.gov. Please use the title “Market Risk Advisory Committee” in any written statement you submit. Any statements submitted in connection with the committee meeting will be made available to the public, including publication on the CFTC Web site, http://www.cftc.gov.

FOR FURTHER INFORMATION CONTACT: Petal Walker, MRAC Designated Federal Officer, Commodity Futures Trading Commission, Three Lafayette Centre, 1155 21st Street NW., Washington, DC 20581; (202) 418-5010.

SUPPLEMENTARY INFORMATION: The meeting will be open to the public with seating on a first-come, first-served basis. Members of the public may also listen to the meeting by telephone by calling a domestic toll-free telephone or international toll or toll-free number to connect to a live, listen-only audio feed. Call-in participants should be prepared to provide their first name, last name, and affiliation.

Domestic Toll Free: 1-866-844-9416.

International Toll and Toll Free: Will be posted on the CFTC's Web site, http://www.cftc.gov, on the page for the meeting, under Related Documents.

Pass Code/Pin Code: 1519074.

After the meeting, a transcript of the meeting will be published through a link on the CFTC's Web site, http://www.cftc.gov. All written submissions provided to the CFTC in any form will also be published on the CFTC's Web site. Persons requiring special accommodations to attend the meeting because of a disability should notify the contact person above.

Authority: 5 U.S.C. app. 2 10(a)(2).

Dated: June 3, 2016.
Robert N. Sidman,
Deputy Secretary of the Commission.

[FR Doc. 2016-13622 Filed 6-8-16; 8:45 am]

BILLING CODE 6351-01-P